DEPARTMENT OF THE INTERIOR

Bureau of land Management

[MT-059-1610-DO-018E]

Public Lands in the Dillon Field Office, Beaverhead and Madison Counties, MT

AGENCY: Dillon Field Office, Bureau of Land Management, Dillon, Montana, Interior.

ACTION: Notice of intent to prepare a Resource Management Plan (RMP) and associated Environmental Impact Statement (EIS) for public lands in the Dillon Field Office, Beaverhead and Madison Counties, Montana.

SUMMARY: This document provides notice that the Bureau of Land Management (BLM) intends to prepare a RMP and associated EIS under the Federal Land Policy and Management Act (FLPMA) and the National Environmental Policy Act (NEPA). The plan will provide a framework to guide subsequent management decisions on approximately 902,528 acres of public land and 1,305,504 acres of subsurface mineral estate administered by the BLM in Madison and Beaverhead Counties. However, 59,287 acres of public land located immediately south of the Big Hole River in Beaverhead County will not be included in this planning effort. This land is administered by the BLM Butte Field Office and will be considered in future planning efforts for that area.

The RMP will establish desired conditions for the public lands covered by the plan and identify appropriate public land uses for a number of resource values and programs. A wide range of alternatives will be considered in developing the plan, which will take into account local, regional, and national needs and concerns. This notice also initiates the public scoping process to examine issues and develop planning criteria to guide the planning process. Nominations for Areas of Critical Environmental Concern (ACEC) may also be submitted during the comment period.

DATES: The scoping comment period will commence with the publication of this notice. Formal scoping will end October 9, 2001. Comments on issues, planning criteria, and special area nominations should be received on or before the end of the scoping period.

ADDRESSES: For further information and/or to have your name added to the mailing list, contact Renee Johnson, RMP Project Leader, Bureau of Land Management, Dillon Field Office, 1005 Selway Drive, Dillon, Montana; Telephone 406-683-8016; Fax 406-683-2970. Comments should be sent to the above address or may be sent by electronic mail (e-mail) to MT_Dillon_RMP@blm.gov. Comments submitted during this planning process, including names and street addresses of respondents, will be available for public review at the Dillon Field Office during regular business hours 8 a.m. to 4:30 p.m., Monday through Friday, except holidays. Individual respondents may request confidentiality. If you wish to withhold your name or address from public review or disclosure under the Freedom of Information Act, you must state this prominently at the beginning of your comments. Such requests will be honored to the extent allowed by law. All submissions from organizations or businesses, and from individuals identifying themselves as representatives or officials of organizations or businesses, will be made available for public inspection in their entirety.

SUPPLEMENTARY INFORMATION: The RMP to be prepared for the public lands administered by the Dillon Field Office will identify goals, objectives, standards and guidelines for management of a variety of resources and values. The plan will specify actions, constraints, and general management practices necessary to achieve desired conditions. The plan will also identify any areas requiring special management such as ACECs. The scope of the RMP will be comprehensive. Certain existing standards and guidelines and other BLM plans will be incorporated into the RMP such as Standards for Rangeland Health and Guidelines for Livestock Grazing as set out by the Western Montana Resource Advisory Council (RAC), policies and strategies outlined in the Montana Weed Management Plan, the Interim Management Policy and Guidelines for Lands Under Wilderness Review, the Centennial Travel Management Plan which covers BLM land in the southern portion of the Centennial Valley in Beaverhead County, and the Montana/Dakotas Statewide Fire Management Plan and associated Dillon Fire Management Plan update, once completed. The planning process will also analyze and incorporate information previously compiled on oil and gas leasing.

This notice provides the public an opportunity to suggest issues, concerns, needs, and resource use, development and protection opportunities for consideration in preparation of the plan. A number of decisions related to various resource values and programs will be made as a result of this planning effort. The major issues identified to date include (1) Management of vegetation, especially sagebrush-steppe habitats; (2) watershed management especially regarding water quality, fishery values and riparian areas; (3) management of areas with special values; (4) conservation and recovery of special status species; (5) travel management and access to public lands; (6) availability and management of public lands for commercial uses; and (7) land tenure adjustments. In addition to the major issues, a number of management questions and concerns will be addressed in the plan. Issues and management concerns may be identified by interested parties during the scoping phase. After gathering public comments on what issues the plan should address, the suggested issues will be placed in one of three categories: (1) Issues to be resolved in the plan; (2) issues resolved through policy or administrative action; and (3) issues beyond the scope of the plan. BLM will provide feedback to the public on the final issues to be addressed in the plan. An interdisciplinary approach will be used to develop the plan in order to consider the variety of resource issues and concerns identified. Disciplines involved in the planning process will include specialists with expertise in rangeland management, minerals and geology, forestry, outdoor recreation, archaeology, paleontology, wildlife and fisheries, lands and realty, hydrology, soils, sociology and economics.

The following planning criteria have been proposed to guide development of the plan, to avoid unnecessary data collection and analyses, and to ensure the plan is tailored to the issues. Other criteria may be identified during the public scoping process. After gathering comments on planning criteria, BLM will finalize the criteria and provide feedback to the public on the criteria to be used throughout the planning process.

• The RMP will comply with applicable Federal laws and regulations.

• The RMP will be accompanied by an EIS prepared under NEPA.

• The RMP will only cover lands under jurisdiction of the Dillon Field Office. This includes split estate, where the surface is private, but subsurface minerals are Federal. This does not include BLM lands in Beaverhead County along the south side of the Big Hole River under jurisdiction of the Butte Field Office.

• The RMP will study public land in the planning area not yet inventoried for wilderness characteristics.

• The RMP will consider the recovery plans in place for threatened and endangered species which utilize the planning area, including Whooping Crane, Bald Eagle, Grizzly Bear, Wolf, and Lynx.

• The RMP will consider the management strategies developed for Westslope Cutthroat Trout, Fluvial Arctic Grayling and Sage Grouse when developing the plan.

• The RMP will recognize the State of Montana's responsibility to manage wildlife populations, including hunting and fishing uses.

• RMP decisions will be compatible to the extent possible with the plans and mandates of other agencies and governments that share jurisdiction in the region.

• The RMP will consider and integrate local, Statewide and national interests.

• Actions proposed by the RMP must be achievable given technological, budget and staffing limits.

The BLM is also requesting public input for nominations considered worthy of ACEC designation. To be considered as a potential ACEC, an area must meet the criteria of relevance and importance as established and defined in 43 CFR 1610.7-2. Nominations must include descriptive materials, detailed maps, and evidence supporting the “relevance” and “importance” of the resource or area. Several nominations have already been proposed in previous planning efforts including the Madison River Corridor, the Virginia City Historic District, the Axolotl Lakes area, the Block Mountain area, the Upper Centennial Basin Bald Eagle Nesting Areas, the Sage Creek area, Lima Reservoir area, the Muddy Creek/Big Sheep Creek area, Everson Creek, Badger Gulch, Bannack Historic District, the Centennial Mountains from Nemesis Mountain to Price Creek, Clark Canyon, Maiden Rock, the East Fork of Blacktail Deer Creek, and the Ferruginous Hawk Nesting area. The Soap Gulch-Camp Creek area and the Jerry Johnson Creek area were previously nominated but are now administered by the BLM's Butte Field Office and will not be considered in the Dillon planning effort. All other existing and new ACEC nominations within the planning area will be evaluated during development of the RMP.

Public Participation Opportunities

The BLM is seeking comments, concerns and views of a diverse array of individuals, groups, organizations, agencies, and governments. Early participation by all those interested is encouraged and will help determine the future management of public lands administered by the Dillon Field Office. The BLM anticipates inviting both Beaverhead and Madison Counties to become Cooperating Agencies under the provisions of the NEPA given special expertise the counties have in certain areas. The Montana Consensus Council, established under the Governor's Office, has also conducted a situation assessment prior to publication of this notice and is making recommendations to BLM to enhance the public participation process.

A scoping brochure will be sent to the public and interested parties after publication of this notice. The mailing list will continue to be updated and modified during the planning process. Press releases will be provided to local and regional newspapers regarding the initiation of the plan, availability of the scoping brochure, and the comment period. Information on the planning process and notice of the scoping period will also be placed on the Dillon Field Office website at www.mt.blm.gov/dfo. Public meetings and workshops will be held throughout the plan scoping and preparation period. In order to ensure local community participation and input, meetings will held in the communities of Dillon, Sheridan, and Ennis. Other locations in the vicinity of the planning area may be included. At least 15 days public notice will be given for activities where the public is invited to attend. Meetings and comment deadlines will be announced through the local news media, newsletters and the Dillon Field Office Website (www.mt.blm.gov/dfo). The minutes and list of attendees for each meeting will be available to the public and open for 30 days to any participants who wish to clarify the views they expressed. Newsletter updates and newspaper articles will be used throughout development of the RMP to keep the public informed of progress on the plan. Documents and other information pertinent to this proposal may be examined at the Dillon Field Office located in Dillon, Montana.

Dated: July 23, 2001.
Scott Powers,
Field Manager.

[FR Doc. 01-20022 Filed 8-8-01; 8:45 am]

BILLING CODE 4310-$$-P